DEPARTMENT OF THE INTERIOR

Bureau of Land Management

[LLCA930000 L14400000.ET0000; CACA 032220]

Public Land Order No. 7848; Extension of Public Land Order No. 7179, California

AGENCY: Bureau of Land Management, Interior.

ACTION: Public Land Order.

SUMMARY: This order extends the duration of the withdrawal created by Public Land Order No. 7179 for an additional 20-year period. The extension is necessary to continue protection of the seismic integrity of the University of California-Berkeley Seismic Observatory located in the Klamath National Forest, Siskiyou County which will expire on January 24, 2016, unless extended.

DATES: This withdrawal extension is effective on January 25, 2016.

FOR FURTHER INFORMATION CONTACT: Nathan Price, United States Forest Service, Regional Office, R5, 1323 Club Drive, Vallejo, California 94592, 707-562-8963, or Elizabeth Easley, Bureau of Land Management California State Office (CA-930), Federal Building (Room W-1928), 2800 Cottage Way, Sacramento, California 95825-1886; 916-979-4673. Persons who use a telecommunications device for the deaf (TDD) may call the Federal Information Relay Service (FIRS) at 1-800-877-8339 to contact either of the above individuals. The FIRS is available 24 hours a day, 7 days a week, to leave a message or question with the above individual. You will receive a reply during normal business hours.

SUPPLEMENTARY INFORMATION: The purpose for the extension of the duration of the withdrawal created by Public Land Order No. 7179 is to continue protecting seismic monitoring instruments and the seismic integrity of the University of California-Berkeley Seismic Observatory, located on 45 acres of National Forest System land, from future mining activities that either disturb the seismic equipment or create seismic noise in the general area that would interfere with the accuracy of the seismograph.

Order

By virtue of the authority vested in the Secretary of the Interior by Section 204 of the Federal Land Policy and Management Act of 1976, 43 U.S.C. 1714, it is hereby ordered as follows:

Public Land Order No. 7179 (61 FR 2137 (1996)) which withdrew 45 acres of National Forest System land from location and entry under the United States mining laws, but not from leasing under the mineral leasing laws to protect the seismic integrity of the University of California-Berkeley Seismic Observatory, is hereby extended for an additional 20-year period. This withdrawal will expire on January 24, 2036, unless, as a result of a review conducted before the expiration date pursuant to Section 204(f) of the Federal Land Policy and Management Act of 1976, 43 U.S.C. 1714(f), the Secretary determines that the withdrawal shall be further extended.

Dated: January 10, 2016.
Janice M. Schneider,
Assistant Secretary—Land and Minerals Management.

[FR Doc. 2016-01295 Filed 1-21-16; 8:45 am]

BILLING CODE 3411-15-P